DEPARTMENT OF HEALTH AND HUMAN SERVICES

Centers for Disease Control and Prevention

[30 DAY-47-03]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 498-1210. Send written comments to CDC, Desk Officer, Human Resources and Housing Branch, New Executive Office Building, Room 10235, Washington, DC 20503 or by fax to (202) 395-6974. Written comments should be received within 30 days of this notice.

Proposed Project

A Research Program to Develop Optimal NIOSH Alerts in Farming (OMB No. 0920-0501)—REVISION—National Institute for Occupational Safety and Health (NIOSH), Centers for Disease Control and Prevention (CDC).

The mission of the National Institute for Occupational Safety and Health (NIOSH) is to promote “safety and health at work for all people through research and prevention.” Alerts are some of the primary publications by which NIOSH communicates health and safety recommendations to at-risk workers. Each Alert is mailed to workers affected by a particular health or safety hazard and contains information about the nature of the hazard, as well as recommendations for avoiding or controlling it. Despite the important role of Alerts in conveying health and safety information to workers, these publications have not been routinely pretested and evaluated for effectiveness. Therefore, it is important to continue research that examines the degree to which the NIOSH Alerts produce risk awareness, as well as comprehension, acceptance and use of the recommended health and safety measures.

The OMB-approved project, “A Research Program to Develop Optimal NIOSH Alerts in Farming” (0920-0501), applied theoretical advances in communication research to the development of NIOSH Alerts to ensure maximal effectiveness in conveying health and safety information to workers. This project applied psychology and communication theories to experimentally manipulate features of the NIOSH Alerts and examine the effects of these manipulations on the effectiveness of the Alert. To design these theory-based Alerts, the concepts of goal attainment imagery and risk imagery were applied. Goal attainment imagery asks the readers to imagine themselves carrying out the safety recommendations provided in the Alert, while risk imagery asks the readers to imagine themselves in a high risk situation where the safety recommendations are not followed.

Field research from the project, which applied these two types of imagery, has shown that farmers who received an Alert containing goal attainment imagery found the Alert easier to visualize, stronger, more convincing and more attention getting than a standard Alert. Farmers who received an Alert with goal attainment imagery reported heightened perceptions of risk awareness and more positive attitudes toward engaging in safety recommendations. In addition, they reported that they would be more likely to pass the information on to other farmers. No differences were found between farmers who received Alerts containing risk imagery and farmers who received a standard Alert. Therefore, goal attainment imagery seemed to have the strongest effect when included in the Alerts.

The original OMB-approved protocol proposed that a national mail-out survey would be conducted in order to test the generalizability of the data collected in the field. Farmers would receive an experimental (high imagery) or a standard version of an Alert along with a survey to complete and return to NIOSH. However, based on results from similar projects, we have learned that mail surveys generate low response rates. We propose changing the data collection format from a mail survey to a telephone survey. Farmers would receive an experimental version of the Alert and then be contacted approximately two weeks later to complete a telephone survey.

This change to the data collection format would serve three purposes. It is expected that the response rate for the telephone survey would be considerably higher than the response rate for the mail survey. Also, surveying a national sample of farmers would allow us to generalize the results to the broader population of farmers. Finally, the distribution of the experimental Alerts is similar to the way in which NIOSH Alerts are distributed to at risk workers and would present an opportunity to test the effectiveness of this distribution method. The annual burden for this data collection is 133 hours.

Respondent | Number of respondents | Number of responses per respondent | Average burden per response (in hours)
Farmers | 400 | 1 | 20/60

Dated: June 11, 2003.
Thomas A. Bartenfeld,
Acting Associate Director for Policy, Planning and Evaluation, Centers for Disease Control and Prevention.

[FR Doc. 03-15215 Filed 6-16-03; 8:45 am]

BILLING CODE 4163-18-P